DEPARTMENT OF JUSTICE

Antitrust Division

Notice Pursuant to the National Cooperative Research and Production Act of 1993—National Warheads and Energetics Consortium

Notice is hereby given that, on August 9, 2011, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, ADEX Machining Technologies, Greenville, SC; Arlington Machine and Tool Company, Fairfield, NJ; Blue Juice, Inc., San Rafael, CA; Ervin Industries Inc., Ann Arbor, MI; Gates Albert, Inc., North Chili, NY; General Dynamics Armament and Technical Products, Inc., Williston, VT; Hi-Shear Technology Corporation, Torrance, CA; Honeywell International, Inc., Colonial Heights, VA; IllinoisRocstar LLC, Champaign, IL; Keystone Automation, Inc., Duryea, PA; Marotta Controls, Inc., Montville, NJ; MaTech, Salisbury, MD; NAVSYS Corporation, Colorado Springs, CO; Orbital Research, Inc., Cleveland, OH; Sentel Corporation, Alexandria, VA; SRI International, Menlo Park, CA; Thales USA Defense & Security, Inc., Arlington, VA; United Support Solutions, Inc., Cedar Grove, NJ; and Woodward HRT, Inc., Santa Clarita, CA, have been added as parties to this venture.

Also, Applied Sonics Incorporated, Littleton, CO; Bennington Microtechnology Center, North Bennington, VT; C-2 Innovations, Inc., Stow, MA; Combustion Propulsion and Ballistic Technology Corp., State College, PA; E2 Project Management, LLC, Rockaway, NJ; Erigo Technologies LLC, Enfield, NH; Explo Systems, Inc., Minden, LA; FED-COMM USA, Inc., Escondido, CA; Indiana Ordnance Works Inc., Charlestown, IN; Liteboard Technology, Annandale, VA; Malcolm Pirnie, Inc., White Plains, NY; QinetiQ North America, Reston, VA; QuesTek Innovations, LLC, Evanston, IL; Technology Management Company, Inc., Albuquerque, NM; Tetra Tech, Inc., Honolulu, HI; Trident Research, LLC, Austin, TX; Unified Design Corporation, Rockaway, NJ; and University of Texas at Austin, Austin, TX, have withdrawn as parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on February 25, 2011. A notice was published in the Federal Register pursuant to Section 6(b) of the Act on March 25, 2011 (76 FR 16820).

Patricia A. Brink,
Director of Civil Enforcement, Antitrust Division.

[FR Doc. 2011-24396 Filed 9-22-11; 8:45 am]

BILLING CODE 4410-11-M